Proclamation 8611 of December 2, 2010

40th Anniversary of the Environmental Protection Agency

By the President of the United States of America

A Proclamation

From the air we breathe to the water we drink, the quality of our environment has a profound effect on our public health, the well-being of future generations, and the vitality of our economy. Just four decades ago, smog choked communities across America, pollution clotted numerous waterways, and our Nation watched in shock as Cleveland’s Cuyahoga River ignited from a tragic accumulation of industrial waste and sewage. Americans realized that we must work together to preserve the beauty and utility of our planet, and we have come to expect clean air and drinking water.

The United States Environmental Protection Agency (EPA) was created in 1970 to protect Americans’ health and our natural resources from pollution. Since its formation, EPA has responded to our Nation’s most urgent environmental challenges, including industrial waste polluting our waters, acid rain poisoning our forests and lakes, the thinning of the ozone layer that shields the Earth, and safe handling of electronic waste. Throughout its history, EPA has been a champion for healthy families by reducing the environmental risks that affect children, fostering cleaner communities, and building a stronger America.

Looking to the future, we must safeguard the rich resources that have supported centuries of American growth and economic expansion, while also protecting the clean air and water that has helped keep our families healthy. To carry out these obligations, EPA will continue to make clean air, safe water, and unpolluted land a priority, and encourage America to be a leader in environmental protection through pollution prevention and the development of clean-energy alternatives to fossil fuels. The advances we make today will build a sustainable future for our country, creating new clean-energy jobs and laying the foundation for our long-term economic security.

Four decades after its creation, EPA is building on its legacy of responsible stewardship and advancing environmental quality in the face of new challenges. As we strive to protect the integrity of our planet in the 21st century, EPA continues to lead on critical global issues like reducing mercury pollution, fighting for environmental justice in overburdened communities, and confronting global climate change. The work of EPA benefits every American by making our environment safer and healthier while securing the path to a better future for our children and grandchildren.

NOW, THEREFORE, I, BARACK OBAMA, President of the United States of America, by virtue of the authority vested in me by the Constitution and the laws of the United States, do hereby proclaim December 2, 2010, as the 40th Anniversary of the United States Environmental Protection Agency. I call upon all Americans to observe this anniversary with appropriate programs, ceremonies, and activities that honor EPA’s history, accomplishments, and contributions to our environment.

IN WITNESS WHEREOF, I have hereunto set my hand this second day of December, in the year of our Lord two thousand ten, and of the Independence of the United States of America the two hundred and thirty-fifth.

[FR Doc. 2010-30809

Filed 12-6-10; 8:45 am]

Billing code 3195-W1-P